DEPARTMENT OF JUSTICE

Notice of Lodging of Consent Decree Pursuant to the Comprehensive Environmental Response, Compensation and Liability Act of 1980 (“CERCLA”)

In accordance with 28 CFR 50.7, notice is hereby given that on May 1, 2002, a proposed Consent Decree (“Decree”) in United States v. Interstate Power and Light Company, Kansas City Power and Light Company, and City of Mason City, Iowa, Civil Action No. CO2-3030-MWB, was lodged with the United States District Court for the Northern District of Iowa.

The Complaint filed in the above-referenced matter alleges that Interstate Power and Light Company, Kansas City Power and Light Company, and the City of Mason City, Iowa (“Defendants”) are liable under section 107(a) of the Comprehensive Environmental Response, Compensation and Liability Act of 1980, as amended, (“CERCLA”), 42 U.S.C. 9607(a), for costs incurred and to be incurred by the Environmental Protection Agency (“EPA”) as a result of the release or threatened release of hazardous substances at or in connection with the Mason City Coal Gasification Superfund Site (the “Site”) located in Mason City, Iowa. The Complaint, which was filed simultaneously on May 1, 2002, with the Decree, sought response costs incurred and to be incurred by the United States in connection with the Site. Under the proposed Decree, the Defendants shall implement the remedy selected by EPA for the Site, pay $23,678 in reimbursement of response costs, and pay EPA future oversight costs at the Site.

The Department of Justice will receive, for a period of thirty (30) days from the date of this publication, comments relating to the proposed Decree. Comments should be addressed to the Assistant Attorney General for the Environment and Natural Resources Division, PO Box 7611, U.S. Department of Justice, Washington, DC 20044-7611, and should refer to United States v. Interstate Power and Light Company, Kansas City and Light Company, and City of Mason City, Iowa, DOJ Ref. #90-11-3-07398.

The proposed Decree may be examined at the office of the United States Environmental Protection Agency, Region VII, 901 North 5th Street, Kansas City, Kansas 66101. A copy of the proposed Decree may also be obtained by mail from the Consent Decree Library, PO Box 7611, U.S. Department of Justice, Washington, DC 20044-7611 or by faxing a request to Tonia Fleetwood, fax no. (202) 514-0097, phone confirmation number (202) 514-1547. In requesting a copy of the proposed Decree, please refer to the referenced case number and enclose a check in the amount of $51.75 (25 cents per page reproduction cost), payable to the U.S. Treasury.

Robert Maher,
Assistant Chief, Environmental Enforcement Section, Environmental and Natural Resources Division.

[FR Doc. 02-12200 Filed 5-15-02; 8:45 am]

BILLING CODE 4410-15-M